DEPARTMENT OF AGRICULTURE

Forest Service

West Virginia Resource Advisory Committee

AGENCY: Forest Service, Agriculture (USDA).

ACTION: Notice of meeting.

SUMMARY: The West Virginia Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as make recommendations on recreation fee proposals for sites on the Monongahela National Forest within Greenbrier, Pocahontas, Randolph, Tucker, and Webster Counties, consistent with the Federal Lands Recreation Enhancement Act.

DATES: A virtual meeting will be held on Wednesday, September 17, 2025, from 4:30 p.m. to 7:30 p.m. Eastern Daylight Time and on Monday, September 29, 2025, from 4:30 p.m. to 7:30 p.m. Eastern Daylight Time.

Written and Oral Comments: Anyone wishing to provide virtual oral comments must pre-register by 11:59 p.m. (Eastern Daylight Time) on September 12, 2025. Written public comments will be accepted until 11:59 p.m. (Eastern Daylight Time) on September 8, 2025. Comments submitted after this date will be provided by the Forest Service to the committee, but the committee may not have adequate time to consider those comments prior to the meeting.

All RAC meetings are subject to cancellation. For status of the meeting prior to attendance, please contact the person listed under FOR FURTHER INFORMATION CONTACT.

ADDRESSES: The meeting will be held virtually via telephone and/or video conference. Members of the public may participate in the meeting by joining virtually via videoconference at: Microsoft Teams/Meeting ID: 271 300 283 751 8, Passcode: Hy6QW383; or Dial in by phone +1 (202) 650-0123, 673784298# United States, Washington, phone conference ID: 673 784 298#. Committee information and meeting details can be found at the following website, https://www.fs.usda.gov/r09/monongahela/working-with-us/committees, or by contacting the person listed under FOR FURTHER INFORMATION CONTACT.

Written Comments: Written comments must be sent by email to kristopher.hennig@usda.gov or via mail (postmarked) to Kristopher Hennig, Partnership Coordinator, Monongahela National Forest, 200 Sycamore Street, Elkins, West Virginia 26241. The Forest Service strongly prefers comments to be submitted electronically.

Oral Comments: Persons or organizations wishing to make oral comments must pre-register by 11:59 p.m. Eastern Daylight Time, September 12, 2025, and speakers can only register for one speaking slot. Oral comment requests must be sent by email to kristopher.hennig@usda.gov or via mail (postmarked) to Kristopher Hennig, Partnership Coordinator, Monongahela National Forest, 200 Sycamore Street, Elkins, West Virginia 26241.

FOR FURTHER INFORMATION CONTACT: Cindy Sandeno, West Virginia RAC Designated Federal Officer, by phone at (304) 635-4482 or email at Cynthia.Sandeno@usda.gov; or Kristopher Hennig, West Virginia RAC Coordinator, by phone at (304) 635-4475 or email at kristopher.hennig@usda.gov.

SUPPLEMENTARY INFORMATION: The purpose of the meeting is to:

1. Add, remove, or edit the below agenda items, as needed;

2. Hear from the Forest Service and discuss recreation fee proposals;

3. Make recommendations on recreation fee proposals;

4. Receive updates on previously funded Title II projects;

5. Establish timeline for soliciting new Title II project proposals;

6. Other.

Please contact the person listed under FOR FURTHER INFORMATION CONTACT, by or before the deadline, for all questions related to the meeting. All comments, including names and addresses when provided, are placed in the record and are available for public inspection and copying. The public may inspect comments received upon request.

Meeting Accommodations: If you are a person requiring reasonable accommodation, please make a request in advance for sign language interpreting, assistive listening devices, or other reasonable accommodation. For access to proceedings, please contact the person listed in the section titled FOR FURTHER INFORMATION CONTACT. All reasonable accommodation requests are managed on a case-by-case basis.

Equal opportunity practices, in accordance with USDA policies, will be followed in all membership appointments to the committee.

In accordance with Federal civil rights law and U.S. Department of Agriculture (USDA) civil rights regulations and policies, the USDA, its Agencies, offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: August 14, 2025.
Cikena Reid,
USDA Committee Management Officer.

[FR Doc. 2025-15677 Filed 8-15-25; 8:45 am]

BILLING CODE 3411-15-P